ENVIRONMENTAL PROTECTION AGENCY

40 CFR Part 35

[FRL-7916-6]

Notice of Availability of Class Deviation; Alternative State Allotment formula For FY 2005 Clean Water Act Section 106 Increase

AGENCY: Environmental Protection Agency (EPA).

ACTION: Notice of availability.

SUMMARY: This document provides notice of the availability of a Class Deviation from EPA's allotment formula for the awarding of Clean Water Act (CWA) Section 106 grants and also sets forth an alternative formula that will apply for the $9.92 million FY 2005 increase in EPA's appropriation for these grants. Currently, monies awarded under Section 106 of the Clean Water Act are allocated through allotment formulae for States, interstate agencies, and tribes. These formulae implement Section 106(b) of the CWA, which directs the EPA Administrator to make allotments for grants from sums appropriated by Congress in each fiscal year “in accordance with regulations promulgated by him on the basis of the extent of the pollution problem in the respective states.” Because the President's FY 2005 budget request specifically requested an increase in Section 106 funding for FY 2005 enhanced monitoring activities, EPA determined through a Class Deviation that if it applied the current State allotment formula to that increase only a small number of States would actually receive an increase while the majority of States would not receive a sufficient increase to strengthen their water quality monitoring activities. The Class Deviation and the new allotment formula apply only to the $9.92 million FY 2005 Section 106 increase and not to the remainder of the monies appropriated by Congress for these grants, which will be allocated in accordance with the allocation formulae EPA currently uses.

DATES: These procedures are effective upon May 24, 2005.

FOR FURTHER INFORMATION CONTACT: Lena Ferris, Office of Wastewater Management, Office of Water, 1200 Pennsylvania Avenue, NW., Mail Code 4201M, Washington, DC 20460. The telephone number is (202) 564-8831; facsimile number (202) 5501-2399; and e-mail address is ferris.lena@epa.gov. Copies of the Class Deviation and the allocation are available by contacting Lena Ferris as indicated above.

SUPPLEMENTARY INFORMATION: This action announces EPA's Class Deviation from EPA's allotment formula for the awarding of CWA Section 106 grants found at 40 CFR part 35, subpart A, § 35.162(b) and sets forth an alternative allotment formula for the FY 2005 increase in EPA's appropriation for these grants. The alternative allotment formula is designed to direct the increase in these funds toward new state monitoring activities, which is the basis for the President's FY 2005 budget request increase for these grants. This revised formula, which is set forth below and is consistent with Section 106(b) of the CWA, will ensure that States are provided a meaningful increase that is sufficient to begin strengthening their water quality monitoring activities.

Regulated Entities

States that are eligible to receive grants under Section 106 of the Clean Water Act.

Background

Section 106 of the CWA requires that funds appropriated under this section be allocated to States, tribes, and interstate agencies, “on the basis of the extent of the pollution problem in the respective States,” in accordance with promulgated regulations. EPA developed and promulgated the current Section 106 State and Interstate Allocation Formula based on six components selected by EPA and the States to serve as surrogate representatives for the extent of the pollution problem in the States. The Tribal formula is also consistent with this approach. Approximately $9.1 million of the increase will be allocated with each State receiving approximately $172,000, while each territory and the District of Columbia will receive an allocation of approximately $86,000. Of the increase, EPA will allot to both Interstate Agencies and Tribes in accordance with existing formulae.

Statutory and Executive Order Reviews

Under Executive Order 12866 (58 FR 51735, October 4, 1993), this action is not a “significant regulatory action” and is therefore not subject to OMB review. Because this grant action is not subject to notice and comment requirements under the Administrative Procedures Act or any other statute, it is not subject to the Regulatory Flexibility Act (5 U.S.C. 601 et seq.) or sections 202 and 205 of the Unfunded Mandates Reform Act of 1999 (UMRA) (Public Law 104-4). In addition, this action does not significantly or uniquely affect small governments. This action does not have tribal implications, as specified in Executive Order 13175 (63 FR 67249, November 9, 2000). This action will not have federalism implications, as specified in Executive Order 13132 (64 FR 43255, August 10, 1999). This action is not subject to Executive Order 13211, “Actions Concerning Regulations That Significantly Affect Energy Supply, Distribution, or Use” (66 FR 28355, May 22, 2001), because it is not a significant regulatory action under Executive Order 12866. This action does not involve technical standards; thus, the requirements of section 12(d) of the National Technology Transfer and Advancement Act of 1995 (15 U.S.C. 272 note) do not apply. This action does not impose an information collection burden under the provisions of the Paperwork Reduction Act of 1995 (44 U.S.C. 3501 et seq.). The Congressional Review Act, 5 U.S.C. 801 et seq., generally provides that before certain actions may take affect, the agency promulgating the action must submit a report, which includes a copy of the action, to each House of the Congress and to the Comptroller General of the United States. Since this final grant action contains legally binding requirements, it is subject to the Congressional Review Act, and EPA will submit this action in its report to Congress under the Act.

List of Subjects in 40 CFR Part 35

Environmental protection, Intergovernmental relations, Reporting and recordkeeping requirements, Water pollution control.

Dated: May 13, 2005.
Benjamin H. Grumbles,
Assistant Administrator, Office of Water.

EPA establishes the following State allocation formula for the $9.92 million increase in CWA Section 106 funding as follows:

Section 106 State Program (Deviation Requested From State Allocation Formula). The majority of the $9.92 million increase will be directed to support the State and territorial water quality programs. Approximately $9.1 million will be allocated with each State receiving a full-share allocation of $172,447, while each territory and the District of Columbia will receive a half-share allocation of approximately $86,223. Combining the increase with the States' base funding, the total section 106 State allocation will increase to approximately $179.5 million.

[FR Doc. 05-10342 Filed 5-23-05; 8:45 am]

BILLING CODE 6560-50-P